SOCIAL SECURITY ADMINISTRATION

[Docket No. SSA-2016-0036]

Request for Information on Strategies for Improving Work Outcomes for Individuals With Musculoskeletal Disabilities

AGENCY: Social Security Administration.

ACTION: Notice; reopening of the comment period.

SUMMARY: On Monday, September 19, 2016, we published in the Federal Register a notice requesting information regarding Request for Information (RFI) on Strategies for Improving Work Outcomes for Individuals with Musculoskeletal Disabilities and solicited public comments. We provided a 60-day comment period ending on November 18, 2016. We are reopening the comment period for 30 days.

DATES: The comment period for the notice published on September 19, 2016 (81 FR 64254), is reopened. To ensure that your written comments are considered, we must receive them no later than January 11, 2017.

ADDRESSES: You may submit comments by any one of three methods—Internet, fax, or mail. Do not submit the same comments multiple times or by more than one method. Regardless of which method you choose, please state that your comments refer to Docket No. SSA-2016-0036 so that we may associate your comments with the correct regulation.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function to find docket number SSA-2016-0036. The system will issue you a tracking number to confirm your submission. You will not be able to view your comment immediately because we must post each comment manually. It may take up to a week for your comment to be viewable.

2. Fax: Fax comments to (410) 966-2830.

3. Mail: Address your comments to the Office of Regulations and Reports Clearance, Social Security Administration, 3100 West High Rise, 6401 Security Boulevard, Baltimore, Maryland 21235-6401.

Comments are available for public viewing on the Federal eRulemaking portal at http://www.regulations.gov or in person, during regular business hours, by arranging with the contact person identified below.

FOR FURTHER INFORMATION CONTACT: Susan Wilschke, Acting Associate Commissioner for the Office of Research, Demonstration, and Employment Support, Office of Retirement and Disability Policy, Social Security Administration, 6401 Security Boulevard, Baltimore, Maryland 21235-6401, (410) 966-8906, for information about this notice. For information on eligibility or filing for benefits, call our national toll-free number, 1-800-772-1213, or TTY 1-800-325-0778, or visit our Internet site, Social Security Online, at http://www.socialsecurity.gov.

SUPPLEMENTARY INFORMATION: This document reopens to January 11, 2017, the comment period for the notice RFI that we published on September 19, 2016. We are reopening the comment period in light of the comments that we have received on the RFI notice. If you have already provided comments on the proposed rules, we will consider your comments and you do not need to resubmit them.

Carolyn W. Colvin,
Acting Commissioner of Social Security.

[FR Doc. 2016-29633 Filed 12-9-16; 8:45 am]

BILLING CODE 4191-02-P